DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 8, 2006.

Interested persons are invited to submit written comments regarding the subject matter of the investigations to the Director, Division of Trade Adjustment Assistance, at the address shown below, not later than May 8, 2006.

The petitions filed in this case are available for inspection at the Office of the Director, Division of Trade Adjustment Assistance, Employment and Training Administration, U.S. Department of Labor, Room C-5311, 200 Constitution Avenue, NW., Washington, DC 20210.

Signed at Washington, DC, this 17th day of April 2006.
Erica R. Cantor,
Director, Division of Trade Adjustment Assistance.

Appendix
[TAA petitions instituted between 4/10/06 and 4/14/06]
TA-W | Subject firm (petitioners) | Location | Date of institution | Date of petition
59176 | East Palestine China Co. (Comp) | East Palestine, OH | 04/10/06 | 04/07/06
59177 | Grapevine Staffing, LLC (State) | Creston, IA | 04/10/06 | 04/07/06
59178 | Zohar Waterworks, LLC (Comp) | Columbus, OH | 04/10/06 | 04/07/06
59179 | Hoffmaster (Wkrs) | Glens Falls, NY | 04/10/06 | 03/23/06
59180 | Leading Technologies (Wkrs) | Leechburg, PA | 04/10/06 | 03/31/06
59181 | Syngenta (Comp) | Bucks, AL | 04/10/06 | 04/10/06
59182 | Artisans, Inc. (Comp) | Glen Flora, WI | 04/11/06 | 04/10/06
59183 | Gehl Company (Union) | West Bend, WI | 04/11/06 | 04/10/06
59184 | John F. Turner and Company (Wkrs) | Modesto, CA | 04/11/06 | 04/07/06
59185 | Roseburg Forest Products (Comp) | Dillard, OR | 04/11/06 | 03/31/06
59186 | Paul Lavitt Mills, Inc. (Comp) | Hickory, NC | 04/11/06 | 04/11/06
59187 | Terrell Brothers Manufacturing Co. (Comp) | Denton, NC | 04/11/06 | 03/12/06
59188 | Bosch Rexroth Corporation (UAW) | Wooster, OH | 04/11/06 | 04/10/06
59189 | Photronics, Inc. (Wkrs) | Austin, TX | 04/11/06 | 03/31/06
59190 | FSP-One, Inc. (Comp) | Plainville, MA | 04/11/06 | 04/11/06
59191 | ADC (State) | Shakopee, MN | 04/11/06 | 04/11/06
59192 | Sauer-Danfoss (UAW) | LaSalle, IL | 04/11/06 | 04/11/06
59193 | CEP Products (Wkrs) | West Alexandria, OH | 04/11/06 | 04/11/06
59194 | Artist Colony (Wkrs) | Lexington, NC | 04/11/06 | 04/09/06
59195 | Photronics, Inc. (Comp) | Milpitas, CA | 04/11/06 | 04/11/06
59196 | Kincaid Furniture Co., Inc. (Comp) | Hudson, NC | 04/12/06 | 04/11/06
59197 | Collins and Aikman (Comp) | Farmville, NC | 04/12/06 | 04/10/06
59198 | Tietex Interiors—Williamsburg (Comp) | Gibsonville, NC | 04/12/06 | 03/22/06
59199 | Mechanical Products MP (State) | Jackson, MI | 04/12/06 | 04/07/06
59200 | General Mills, Inc. (Union) | Allentown, PA | 04/12/06 | 04/12/06
59201 | Amphenol T and M Antennas (Comp) | Vernon Hill, IL | 04/12/06 | 04/11/06
59202 | Howell Penncraft (Comp) | Howell, MI | 04/12/06 | 04/12/06
59203 | LH Sewing (Wkrs) | San Francisco, CA | 04/13/06 | 04/12/06
59204 | Ronfeldt Associates, Inc. (Comp) | Toledo, OH | 04/13/06 | 04/10/06
59205 | Alliance Data (Wkrs) | Reno, OH | 04/13/06 | 04/10/06
59206 | Elmore-Pisgah, Inc. (Comp) | Spindale, NC | 04/13/06 | 04/12/06
59207 | Bernhardt Furniture Company (Comp) | Shelby, NC | 04/13/06 | 04/12/06
59208 | TRW Engineered Fasteners and Components (Wkrs) | Westminster, MA | 04/13/06 | 04/12/06
59209 | SLM Electronics (State) | Yellville, AR | 04/13/06 | 04/12/06
59210 | Sony Logistics of America-Pittsburgh (Wkrs) | Mt. Pleasant, PA | 04/13/06 | 04/12/06
59211 | Franklin Farms, Inc. (State) | North Franklin, CT | 04/13/06 | 04/12/06
59212 | Vanguard Furniture Co., Inc. (Wkrs) | Hickory, NC | 04/13/06 | 04/12/06
59213 | Hexcel Corp. (Comp) | Washington, GA | 04/13/06 | 04/04/06
59214 | Roxford Fozdell (Nettexx) (Comp) | Greenville, SC | 04/14/06 | 03/28/06
59215 | Convergus Corporation (Comp) | Tampa, FL | 04/14/06 | 04/13/06
59216 | Schindler Elevator Corp. (Comp) | Sidney, OH | 04/14/06 | 04/13/06
59217 | City Lights (Wkrs) | San Francisco, CA | 04/14/06 | 04/13/06
59218 | General Motors Truck Group (Union) | Moraine, OH | 04/14/06 | 03/13/06
59219 | Action Staffing (State) | Greenfield, SC | 04/14/06 | 04/14/06

[FR Doc. E6-6405 Filed 4-27-06; 8:45 am]

BILLING CODE 4510-30-P